DEPARTMENT OF HEALTH AND HUMAN SERVICES

Administration for Children and Families

Submission for OMB Review; Comment Request

Title: Mentoring Children of Prisoners Service Delivery Demonstration Project Data Collection (MCP) Program.

OMB No.: New Collection.

Description: The Promoting Safe and Stable Families Amendments, as reauthorized (2006), amended Title IV-B of the Social Security Act (42 U.S.C. 629-629e) providing funding for a service delivery demonstration project for the Mentoring Children of Prisoners (MCP) program. The grantee shall identify children of prisoners not being served by the grant program, provide families of identified children with a voucher for mentoring services and a list of quality mentoring programs, and monitor the delivery of mentoring services provided. The Family and Youth Services Bureau (FYSB) of the Administration for Children and Families, United States Department of Health and Human Services, administers the Mentoring Children of Prisoners (MCP) program. The MCP program provides children of prisoners with caring adult mentors, supporting one-to-one mentoring relationships. Research in other populations has shown that such relationships can lead to reductions in risk behaviors and improvements in academic, behavioral and psychological outcomes in children and youth. Although the MCP program was developed based on research documenting the efficacy of mentoring as a general intervention strategy, it is not yet known whether or not this particular intervention yields positive outcomes for the children of prisoners population. Little is known about how mentoring relationships work for these youth, and how effective mentoring relationships for children of prisoners differ from effective mentoring relationships for other youth. In addition, little is known about children of prisoners in general and thus a survey of MCP program youth has the potential to provide important data about this relatively unstudied population.

The evaluation and data collection proposed in this notice are to fulfill the statutory requirement under Section 8, subsection h(1) of the Child and Family Services Improvement Act of 2006, as amended, that the Secretary of the Department of Health and Human Services evaluate outcomes of the MCP service delivery demonstration project and report to Congress on the findings. The information collected will also be used for accountability monitoring, management improvement, and research. Data collection will ensure that the grantee knows that mentoring relationships are meeting the established milestones and that mentoring activities are faithful to characteristics established by research as essential to success. Data collected will allow the Administration for Children and Families to compare the MCP service delivery demonstration project with the MCP grant program. Data collected will also support the grantee as it carries out ongoing responsibilities and manages information for internal uses.

Respondents: Public, faith-based and community organizations applying to and implementing the MCP service delivery demonstration project.

Annual Burden Estimates
Instrument | Number of respondents | Number of responses per respondent | Average burden hours per response | Total burden hours
Program Application | 325 | 1 | 2 | 650
MentorPRO Basic Mentoring Practices and Relationship Data | 250 | 120 | 0.50 | 15,000
Child Application | 4,200 | 1 | 0.50 | 2,100
Baseline Youth Survey | 3,000 | 1 | 0.50 | 1,500
Follow-Up Youth Survey | 2,000 | 1 | 0.50 | 1,000
Relationship Quality Survey | 2,250 | 1 | 0.50 | 1,125
Program Survey | 250 | 1 | 0.50 | 125
Mentor Survey | 2,000 | 1 | 0.50 | 1,000
Payment Information | 1 | 52 | 2 | 104

Estimated Total Annual Burden Hours: 22,604.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: July 9, 2008.
Janean Chambers,
Reports Clearance Officer.

[FR Doc. E8-15898 Filed 7-17-08; 8:45 am]

BILLING CODE 4184-01-P